DEPARTMENT OF COMMERCE

International Trade Administration

[A-533-810]

Stainless Steel Bar From India: Final Results of Antidumping Duty Administrative Review; 2020-2021

AGENCY: Enforcement and Compliance, International Trade Administration, Department of Commerce.

SUMMARY: The U.S. Department of Commerce (Commerce) determines that exporters/producers of stainless steel bar (SS Bar) from India made sales at prices below normal value during the period of review (POR) of February 1, 2020, through January 31, 2021.

DATES: Applicable September 8, 2022.

FOR FURTHER INFORMATION CONTACT: Jacob Keller or Konrad Ptaszynski, AD/CVD Operations, Office I, Enforcement and Compliance, International Trade Administration, U.S. Department of Commerce, 1401 Constitution Avenue NW, Washington, DC 20230; telephone: (202) 482-4849 or (202) 482-6187, respectively.

SUPPLEMENTARY INFORMATION:

Background

On March 4, 2022, Commerce published in the Federal Register the Preliminary Results of the 2020-2021 administrative review of the antidumping duty order on SS Bar from India.¹ We invited interested parties to comment on the Preliminary Results and on June 30, 2022, Carpenter Technology Corporation, Crucible Industries LLC, Electralloy, a Division of G.O. Carlson, Inc., North American Stainless, Universal Stainless & Alloy Products, Inc., and Valbruna Slater Stainless, Inc. (collectively, the petitioners) submitted timely filed case briefs.² On July 6 and 12, 2022, Venus Wire Industries Pvt. Ltd., Hindustan Inox, Precision Metals and Sieves Manufacturers (India) Pvt. Ltd. (collectively, the Venus Group) and Laxcon Steels Limited, Ocean Steels Private Limited, Metlax International Private Limited, Parvati Private Limited, and Mega Steels Private Limited (collectively, Laxcon), respectively, submitted timely filed rebuttal briefs.³ On June 6, 2022, we extended the preliminary results of this review to no later than August 31, 2022.⁴ For a complete description of the events that followed the initiation of this review, see the Issues and Decision Memorandum.⁵

¹ See Stainless Steel Bar from India: Preliminary Results and Partial Rescission of Antidumping Duty Administrative Review; 2020-2021, 87 FR 12428 (March 4, 2022) (Preliminary Results), and accompanying Preliminary Decision Memorandum.

² See Petitioner's Letters, “Petitioners' Case Brief Concerning Laxcon,” dated June 30, 2022; and “Petitioners' Case Brief Concerning Venus,” dated June 30, 2022.

³ See Laxcon's Letter, “Rebuttal of Petitioner Case Brief Concerning to Laxcon Steels Limited of Anti-Dumping Order on Stainless Steels Bar from India (A-533-810),” dated July 12, 2022; see also Venus Group's Letter, “Rebuttal Brief,” dated August 6, 2022. We rejected the Venus Group's initial rebuttal brief submission because it contained untimely new factual information. Accordingly, the Venus Group resubmitted its redacted rebuttal brief on August 6, 2022.

⁴ See Memorandum, “Extension of Deadline for Final Results of Countervailing Duty Administrative Review; 2020-2021,” dated June 6, 2022.

⁵ See Memorandum, “Issues and Decision Memorandum for the Final Results of the Antidumping Duty Administrative Review of Stainless Steel Bar from India; 2020-2021,” dated concurrently with, and hereby adopted by, this notice (Issues and Decision Memorandum).

Scope of the Order ⁶

⁶ See Antidumping Duty Orders: Stainless Steel Bar from Brazil, India and Japan, 60 FR 9661 (February 21, 1995) (Order).

The products covered by the Order are SS Bar. A full description of the scope of the Order is contained in the Issues and Decision Memorandum.⁷

⁷ See Issues and Decision Memorandum.

Analysis of Comments Received

All issues raised in the case and rebuttal briefs filed by interested parties in this review are addressed in the Issues and Decision Memorandum. A list of the topics discussed in the Issues and Decision Memorandum is included in the appendix to this notice. The Issues and Decision Memorandum is a public document and is made available to the public electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, we made certain changes to the margin calculation for Laxcon. For a discussion of these changes, see the Issues and Decision Memorandum.

Use of Adverse Facts Available

Pursuant to sections 776(a) and (b) of the Tariff Act of 1930, as amended (the Act), and for the reasons explained in the Issues and Decision Memorandum, we applied certain changes to Laxcon's margin calculation based on the use of partial adverse facts available.

Final Results of Administrative Review

As a result of this administrative review, Commerce determines that the following estimated weighted-average dumping margins exists for the period February 1, 2020, through January 31, 2021:

⁸ Collectively, these companies are known as the Venus Group.

⁹ We are not disclosing any final margin calculations for Venus Wire Industries Pvt. Ltd., and its affiliates Hindustan Inox Ltd., Precision Metals and Sieves Manufacturers (India) Pvt. Ltd. because we made no changes to the preliminary margin calculations, and we have not performed any calculations in connection with this final determination. See Memorandum, “Administrative Review of the Antidumping Duty Order on Stainless-Steel Bar from India—Preliminary Analysis Memorandum for the Venus Group; 2020-2021,” dated February 25, 2022.

¹⁰ Collectively, these companies are known as Laxcon.

Producer or exporter | Weighted-average dumping margin (percent)
Venus Wire Industries Pvt. Ltd., and its affiliates Hindustan Inox Ltd., Precision Metals and Sieves Manufacturers (India) Pvt. Ltd ⁸ | ⁹ 0.00
Laxcon Steels Limited, and its affiliates Ocean Steels Private Limited, Metlax International Private Limited, Parvati Private Limited, and Mega Steels Private Limited ¹⁰ | 3.76

Disclosure

With respect to Laxcon, we intend to disclose the calculations performed for these final results of review to the parties within five days after public announcement, in accordance with 19 CFR 351.224(b). With respect to the Venus Group, because we made no changes to the margin for the Venus Group in these final results there are no calculations to disclose.

Assessment Rates

Consistent with section 751(a)(2)(C) of the Act and 19 CFR 351.212(b)(1), upon issuance of the final results of review, Commerce shall determine, and U.S. Customs and Border Protection (CBP) shall assess, antidumping duties on all appropriate entries covered by this review. Commerce intends to issue appropriate assessment instructions to CBP no earlier than 35 days after publication of these final results of review. If a timely summons is filed at the U.S. Court of International Trade, the assessment instructions will direct CBP not to liquidate relevant entries until the time for parties to file a request for a statutory injunction has expired (i.e., within 90 days of publication).

For Laxcon, we calculated importer-specific assessment rates on the basis of the ratio of the total amount of dumping calculated for each importer's examined sales and the total entered value of those sales in accordance with 19 CFR 351.212(b)(1).¹¹ Where an importer-specific assessment rate is de minimis (i.e., less than 0.5 percent), the entries by that importer will be liquidated without reference to antidumping duties.

¹¹ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the POR produced by Laxcon for which it did not know that its merchandise was destined for the United States, we will instruct CBP to liquidate unreviewed entries at the all-others rate (i.e., 12.45 percent) ¹² if there is no rate for the intermediate company(ies) involved in the transaction.¹³

¹² See Notice of Final Determination of Sales at Less Than Fair Value: Stainless Steel Bar from India, 59 FR 66915, 66921 (December 28, 1994) (Order).

¹³ See Antidumping and Countervailing Duty Proceedings: Assessment of Antidumping Duties, 68 FR 23954 (May 6, 2003).

Cash Deposit Requirements

The following cash deposit requirements will be effective upon publication in the Federal Register of this notice for all shipments of SS Bar entered, or withdrawn from warehouse, for consumption on or after the date of publication as provided by section 751(a)(2)(C) of the Act: (1) the cash deposit rates for the companies subject to this review will be equal to the dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 12.45 percent, the all-others rate established in the less-than-fair-value investigation for this proceeding.¹⁴ These cash deposit requirements, when imposed, shall remain in effect until further notice.

¹⁴ See Order, 59 FR at 66921.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Administrative Protective Order

This notice also serves as a reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

Commerce is issuing and publishing this notice in accordance with sections 751(a)(1) and 777(i)(1) of the Act and 19 CFR 351.221(b)(5).

Dated: August 31, 2022.
Lisa W. Wang,
Assistant Secretary for Enforcement and Compliance.

Appendix—List of Topics Discussed in the Issues and Decision Memorandum

I. Summary

II. Background

III. Scope of the Order

IV. Changes from the Preliminary Results

V. Discussion of the Issues

Comment 1: Whether Commerce Should Apply Total Adverse Facts Available (AFA) to the Venus Group

Comment 2: Whether Total AFA is Warranted Because Laxcon Destroyed Certain Records

Comment 3: Whether Laxcon Failed Verification of Product Physical Characteristics

Comment 4: Whether Laxcon Provided Complete U.S. Sales Data

Comment 5: Whether Laxcon Provided a Complete Home Market Sales Database

Comment 6: Whether Laxcon Reported Accurate Packing Expenses

Comment 7: Whether Laxcon Withheld Information Regarding Certain Home Market Sales

Comment 8: Whether Commerce Should Apply Total AFA to Laxcon

Comment 9: Ministerial Errors in the Preliminary Results for Laxcon

VI. Recommendation

[FR Doc. 2022-19338 Filed 9-7-22; 8:45 am]

BILLING CODE 3510-DS-P